NATIONAL AERONAUTICS AND SPACE ADMINISTRATION

[Notice 03-076]

Aviation Safety Reporting System Subcommittee; Meeting

AGENCY: National Aeronautics and Space Administration (NASA).

ACTION: Notice of meeting.

SUMMARY: The National Aeronautics and Space Administration announces a forthcoming meeting of the Aviation Safety Reporting System Subcommittee (ASRSS).

DATES: Tuesday, July 15, 2003, 9 a.m. to 5 p.m., and Wednesday, July 16, 2003, 9 a.m. to 2 p.m.

ADDRESSES: National Business Aviation Association, 1200 18th Street, NW., Suite 400, Washington, DC 20036.

FOR FURTHER INFORMATION CONTACT: Ms. Linda Connell, National Aeronautics and Space Administration, Ames Research Center, Moffett Field, CA 94035, 650/960-6059.

SUPPLEMENTARY INFORMATION: The meeting will be open to the public up to the seating capacity of the room. Agenda topics for the meeting are as follows:

• Aviation Safety Reporting System

• Program Status

• Strategic Planning

It is imperative that the meeting be held on these dates to accommodate the scheduling priorities of the key participants. Visitors will be requested to sign a visitors register.

June W. Edwards,
Advisory Committee Management Officer, National Aeronautics and Space Administration.

[FR Doc. 03-16350 Filed 6-26-03; 8:45 am]

BILLING CODE 7510-01-P